DEPARTMENT OF THE INTERIOR

Bureau of Land Management

[LLOR932000.L16100000.DP0000.LXSSH0930000.19X.HAG 19-0118]

Notice of Availability of the San Juan Islands National Monument Proposed Resource Management Plan/Final Environmental Impact Statement

AGENCY: Bureau of Land Management, Interior.

ACTION: Notice of Availability.

SUMMARY: In accordance with the National Environmental Policy Act of 1969, as amended (NEPA), and the Federal Land Policy and Management Act of 1976, as amended, the Bureau of Land Management (BLM) has prepared the San Juan Islands National Monument Proposed Resource Management Plan (RMP) and Final Environmental Impact Statement (EIS) and by this notice is announcing its availability and the opening of a 30-day protest period concerning the Proposed RMP. In accordance with the John D. Dingell, Jr. Conservation, Management, and Recreation Act of 2019, this notice also announces the opening of a 60-day public comment period regarding the proposed closure of the Monument (which encompasses scattered parcels totaling approximately 1,000 acres) to recreational target shooting (referred to as “discharge of firearms” in the RMP).

DATES: The BLM planning regulations state that any person who meets the conditions as described in the regulations may protest the BLM's Proposed RMP and Final EIS. A person who meets the conditions and files a protest must file the protest within 30 days of the date that the Environmental Protection Agency publishes its Notice of Availability in the Federal Register.

To ensure that comments on the proposed target shooting closure will be considered, the BLM must receive written comments by January 21, 2020.

ADDRESSES: The Proposed RMP and Final EIS is available on the BLM ePlanning project website at https://go.usa.gov/xRphc. Hard copies of the Proposed RMP/Final EIS are also available for public inspection at the BLM Lopez Island Office, 37 Washburn Place, Lopez Island, Washington 98261; BLM Spokane District Office, 1103 North Fancher Road, Spokane Valley, WA 99212; and BLM Oregon/Washington State Office, 1220 SW 3rd Avenue, Portland, Oregon 97204.

Instructions for filing a protest with the Director of the BLM regarding the Proposed RMP may be found online at www.blm.gov/programs/planning-and-nepa/public-participation/filing-a-plan-protest and at 43 CFR 1610.5-2.

You may submit comments on the proposed target shooting closure using either of the following methods:

Email: blm_or_sanjuanislandsnm@blm.gov.

Mail: Target Shooting Closure Comments, Lopez Island BLM Office, P.O. Box 3, Lopez, WA 98261.

FOR FURTHER INFORMATION CONTACT: Lauren Pidot, Planner, 503-808-6297; Lopez Island BLM Office, P.O. Box 3, Lopez, Washington 98261; lpidot@blm.gov. Persons who use a telecommunications device for the deaf (TDD) may call the Federal Relay Service (FRS) at 1-800-877-8339 to contact the above individual during normal business hours. The FRS is available 24 hours a day, 7 days a week, to leave a message or a question with the above individual. You will receive a reply during normal business hours.

SUPPLEMENTARY INFORMATION: The BLM has prepared the San Juan Islands National Monument Proposed RMP/Final EIS to evaluate and revise potential management strategies for the San Juan Islands National Monument. Presidential Proclamation 8947 designated the monument on March 25, 2013. The lands included in the monument are not now, and have never been, covered by an RMP. The BLM currently administers these lands using a custodial management approach focused on meeting legal mandates.

The decision area for this planning process comprises the approximately 1,021 acres of lands administered by the BLM. The decision area does not include private lands, State lands, or Federal lands not administered by the BLM, with the exception of approximately 189 acres of land currently withdrawn to the U.S. Coast Guard. The U.S. Coast Guard is in the process of relinquishing these acres. The BLM anticipates that acres relinquished by the U.S. Coast Guard will come under BLM administration prior to the publication of the Record of Decision for this planning process. In the event that the relinquishment process is not complete prior to the publication of the Record of Decision, the approved RMP would only go into effect for those 189 acres once they are under BLM administration.

The monument includes headlands, islands, and rocks scattered across the San Juan Islands. As a whole, the San Juan Islands are comprised of private lands and an array of Federal, State, and local public lands. Non-BLM public lands include the San Juan Island National Historical Park, the San Juan Islands National Wildlife Refuge (a portion of which is designated as the San Juan Wilderness), and a variety of State and county parks.

Major issues considered in the Proposed RMP/Final EIS include the protection and restoration of the ecological and cultural resources identified in Presidential Proclamation 8947, as well as the management of recreation, transportation, visual resources, and wilderness characteristics.

The San Juan Islands National Monument Draft RMP and EIS 90-day public comment period began on October 5, 2018. The BLM held five public meetings across the San Juan Islands and on the mainland during the public comment period. The BLM considered and incorporated in the Proposed RMP/Final EIS, as appropriate, comments received from the public, consulting Tribes, cooperating agencies, and internal BLM review. Public comments resulted in the addition of clarifying text, minor changes to the existing alternatives, and a Proposed RMP that is within the range of alternatives and effects analyzed in the Draft RMP and EIS. In addition to the Proposed RMP, the Final EIS analyzes the four action alternatives (Alternatives A, B, C, and D), one sub-alternative (Sub-Alternative C), and the No Action Alternative analyzed in the Draft EIS.

Under the Proposed RMP, the BLM would focus on promoting ecological resistance and resilience to threats including fire, drought, and other potential disturbances by restoring existing plant communities and enhancing the extent of grasslands and shrublands, which are relatively scarce within the San Juan Islands. The BLM would allow mechanical, manual, biological control, chemical, and fire treatments to achieve objectives. Recreational opportunities would include hiking, hunting, designated site camping, dispersed camping with a permit, trail-based equestrian use, and road-based equestrian and bicycling use. Current hunting opportunities (firearm and non-firearm based) will continue; discharge of firearms and use of bows would be allowed during state-established hunting seasons, but otherwise prohibited within the Monument (see below for more information). Within maritime heritage areas, the BLM would restore historic structures and allow the rebuilding of previously existing structures and the building of new structures to support education and interpretation.

Under the No Action Alternative, the BLM would continue to manage the monument using a custodial approach with no RMP. There would continue to be no plan-level objectives, direction, or allocations, except for the limited decisions made in the 1990 decision record creating the Iceberg Point and Point Colville Areas of Critical Environmental Concern (ACEC) (described below). Custodial management of the monument would continue to focus on meeting legal and policy mandates and preventing unnecessary and undue degradation. The BLM would make decisions about taking management actions on a case-by-case basis after completing the appropriate level of NEPA analysis and ensuring that actions are consistent with Presidential Proclamation 8947 and FLPMA.

Alternative A would undertake a generally passive approach to vegetation management and would prohibit recreation while facilitating scientific, educational, cultural, and spiritual uses of the monument. Under both alternatives B and C, the BLM would pursue ambitious vegetation restoration objectives. Under Alternative B, which was the preferred alternative in the Draft RMP and EIS, recreational opportunities would include hiking, hunting, designated site and dispersed camping, and opportunities for pursuing solitude and quiet, which would be provided by expanding the existing trail network, requiring permits to access 167 acres of the monument, and providing dispersed camping by permit. Under Alternative C, recreational opportunities would include hiking, equestrian use, and designated site camping; portions of the monument would be closed to the discharge of firearms except for half of the firearm-based hunting season. Sub-Alternative C is identical to Alternative C, except the BLM would not allow the use of chemical treatments and would close the monument to the discharge of firearms. Under Alternative D, the BLM would maintain the current extent and condition of plant communities; recreational opportunities would include hunting and increased camping and hiking, biking, and equestrian use on an expanded trail network. The BLM is undertaking concurrent implementation-level travel and transportation planning.

There has been no recent history of uses such as grazing, logging, or mining within the monument. The proclamation designating the monument withdrew it from entry, location, selection, sale, leasing, or other disposition under public land and mining laws other than by exchange that furthers the protective purposes of the proclamation. Except for emergencies, federal law enforcement use, or authorized administrative purposes, the proclamation also restricts motorized vehicle use to designated roads and mechanized vehicle use (e.g., bicycle use) to designated roads and trails.

The 1990 Iceberg Point and Point Colville ACEC Decision Record designated the lands administered by the BLM at Iceberg Point and Point Colville as ACECs. These ACECs were later extended to Watmough Bay and Chadwick Hill after the BLM acquired those areas; they now apply to approximately 500 acres of land included in the monument. The 1990 decision record and the 1988 draft planning analysis of the ACECs generally discuss protecting the areas' “natural values” but do not identify specific relevant and important values.

The BLM technical specialists on the planning team considered whether the monument encompasses values that meet the relevance and importance criteria described in the BLM Manual 1613. They determined that the whole of the monument contains historic and cultural, fish and wildlife, and scenic values that meet the relevance and importance criteria for an ACEC. The planning team also determined that the Proposed RMP and the action alternatives, which meet the purpose and need of protecting the objects for which the monument was designated, would protect these relevant and important values. Since the values do not require special management to protect them from the potential effects of actions permitted by the alternatives, the action alternatives do not include ACECs.

In the Proposed RMP, the BLM proposes that recreational target shooting (referred to as “discharge of firearms” in the RMP) shall not be allowed within the approximately 1,000 acres of scattered parcels that encompass the Monument. As proposed, target shooting would be prohibited within these areas—which vary from less than 0.1 acres to approximately 400 acres—and include developed campgrounds, small day use areas, small rocks and islands, structural cultural sites (including lighthouses), and sensitive archaeological sites. The proposed closure would help protect the cultural objects and values for which the Monument was designated, and provide for public safety at small, recreational sites. The proposed closure would ensure that irreplaceable archaeological resources and structural cultural sites would not inadvertently, or purposefully, be damaged by target shooting activities in the Monument. In addition, the proposed closure would enhance the safety of the public visiting sites in the Monument, which would improve their experience. In accordance with John D. Dingell, Jr. Conservation, Management, and Recreation Act of 2019 (Dingell Act, Pub. L. 116-9, Section 4103), the BLM is announcing the opening of a 60-day public comment period on the proposed target shooting closure. During this time-period, the BLM is only accepting comments on the proposed target shooting closure. All comments must be received by January 21, 2020 and must be submitted using one of the methods listed in the ADDRESSES section, above.

All protests must be in writing and submitted as set forth in the DATES and ADDRESSES sections, above. The BLM Director will render a written decision on each protest. The decision will be mailed to the protesting party. The decision of the BLM Director shall be the final decision of the Department of the Interior on each protest. Responses to protest issues will be compiled and formalized in a Director's Protest Resolution Report made available following issuance of the decisions. Upon resolution of all protests, the BLM will issue a Record of Decision and Approved RMP.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2, 43 CFR 1610.5.

Theresa M. Hanley,
Acting State Director, Oregon/Washington.

[FR Doc. 2019-25177 Filed 11-21-19; 8:45 am]

BILLING CODE 4310-33-P